Proclamation 10722 of March 29, 2024

National Public Health Week, 2024

By the President of the United States of America

A Proclamation

During National Public Health Week, we celebrate the life-saving care of public health professionals who work tirelessly to promote our country's health, safety, and well-being. We recognize that the healthier Americans are as individuals, the stronger we are as a Nation.

In the last few years, we have made enormous progress in recovering from the pandemic, vaccinating 230 million Americans and getting kids back in school. None of that would have been possible without the courage and dedication of millions of first responders and social workers, doctors and nurses, and scientists and researchers. Public health professionals have always played an essential role in the life of our Nation—working to boost immunizations, improve safety standards for food and transportation, protect clean air and water, and more. We owe them for carrying us through tough times and making our country healthier and more prosperous long-term. We have to help make their jobs easier by investing in the health of the American people.

I have long said that health care should be a right in this country, not a privilege. That is why my Administration expanded coverage through the Affordable Care Act. Today, more Americans have health care coverage than under any other President, and millions of families are saving an average of $800 per year on insurance premiums. We have also invested $7.6 billion in community health centers so people in rural and underserved areas can get care close to home. After years of trying, we have succeeded in reducing prescription drug costs—for example, capping insulin at $35 per month for seniors on Medicare, down from as much as $400, and finally getting Medicare the authority to negotiate lower drug prices, as the Department of Defense and the Department of Veterans Affairs have long done. Starting next year, no senior on Medicare will have to pay more than $2,000 per year in total out-of-pocket drug costs—not even for expensive cancer medications that cost many times more.

At the same time, we are funding scientific research that will help us make quantum leaps forward in the prevention, detection, and treatment of deadly diseases. I established the Advanced Research Projects Agency for Health, securing $2.5 billion in bipartisan funding for scientists, innovators, and public health professionals making these advances. Further, the First Lady and I reignited the Cancer Moonshot, setting a bold goal to cut the cancer death rate by at least 50 percent over the next 25 years and boost support for people impacted by cancer. We also launched the first-ever White House Initiative on Women's Health Research to close research gaps and maximize our ability to prevent, diagnose, and treat health conditions in women, like cardiovascular disease, Alzheimer's disease, and endometriosis.

I am doing all I can to protect women's fundamental freedom to make their own health care decisions. In the wake of the Supreme Court's decision to overturn the constitutional right to choose, tens of millions of Americans are living under extreme State abortion bans that put women's health and lives at risk and threaten doctors with jail time for providing the health care their patients need. In response, my Administration has taken steps to safeguard access to emergency medical care, support the ability to travel for reproductive health care, and strengthen privacy protections for patients and health care providers. I will keep pressing the Congress to restore the protections of Roe v. Wade into Federal law. It is the only way to ensure reproductive freedom for women in every State. At the same time, Vice President Harris is leading the effort to combat the maternal health crisis that is gripping our country, which has been especially devastating to Black and Native women and women in rural communities, where maternal mortality rates are unconscionably high.

We are also making historic investments in improving mental health by putting more counselors in schools and pushing insurers to cover mental health care at the same level as any other care.

We are working hard to ensure that substance use disorder is treated like any other disease by funding the expansion of prevention, harm reduction, treatment, and recovery support services. My Administration removed decades—long administrative barriers to treatment of opioid use disorder and expanded access to opioid overdose reversal medications like naloxone, and we are continuing to advance efforts to address the overdose epidemic and save lives. We are working to end the epidemic of gun violence that has shattered far too many American lives. Two summers ago, I signed the most significant gun safety law in nearly 30 years, funding States' implementation of red flag laws and enhancing background checks for gun buyers under 21. I launched the first-ever White House Office of Gun Violence Prevention. I was also proud to sign the reauthorized Violence Against Women Act, building on the law that I first wrote years ago to expand protections and resources for today's domestic violence survivors.

Meanwhile, my Administration is making the largest investment ever in fighting the public health crises caused by climate change. We are working to make communities more resilient to extreme weather and ensuring that 40 percent of our clean energy investments flow to the disadvantaged areas that have borne the brunt of toxic pollution for too long. Through the Bipartisan Infrastructure Law, we are also replacing every poisonous lead pipe in the country so anyone in America can turn on the faucet and drink clean water. We have released a national strategy to end hunger and reduce diet-related diseases, including expanding access to nutrition and obesity counseling, and we are providing millions of students with free, nutritious school meals.

Globally, we are making key investments to combat health challenges like HIV/AIDS, tuberculosis, malaria, cancer, and COVID. With the G20 and other partners, we created the Pandemic Fund to strengthen global pandemic preparedness, prevention, and response. At home, we invested over $7 billion to help State and local public health departments prepare for future crises, and we launched Public Health AmeriCorps to train a strong, diverse public health workforce for tomorrow.

These are vital steps needed to protect the American people. During National Public Health Week, we are reminded how interconnected everyone's health and well-being are and that we are truly all in this together. By continuing to invest in public health, we can help ensure that the lessons of the last 4 years make our Nation stronger for the future.

NOW, THEREFORE, I, JOSEPH R. BIDEN JR., President of the United States of America, by virtue of the authority vested in me by the Constitution and the laws of the United States, do hereby proclaim April 1 through April 7, 2024, as National Public Health Week. I call on all citizens, government agencies, private businesses, nonprofit organizations, and other groups to take action to improve the health of our Nation.

IN WITNESS WHEREOF, I have hereunto set my hand this twenty-ninth day of March, in the year of our Lord two thousand twenty-four, and of the Independence of the United States of America the two hundred and forty-eighth.

[FR Doc. 2024-07195

Filed 4-2-24; 8:45 am]

Billing code 3395-F4-P